NATIONAL SCIENCE FOUNDATION

Membership of National Science Foundation's Senior Executive Service Performance Review Board

AGENCY: National Science Foundation.

ACTION: Announcement of Membership of the National Science Foundation's Senior Executive Service Performance Review Board.

SUMMARY: This announcement of the membership of the National Science Foundation's Senior Executive Service Performance Review Board is made in compliance with 5 U.S.C. 4314(c)(4).

ADDRESSES: Comments should be addressed to Director, Division of Human Resource Management, National Science Foundation, Room 315, 4201 Wilson Boulevard, Arlington, VA 22230.

FOR FURTHER INFORMATION CONTACT: Mr. Joseph F. Burt at the above address or (703) 292-8180.

SUPPLEMENTARY INFORMATION: The membership of the National Science Foundation's Senior Executive Service Performance Review Board is as follows:

Cora B. Marrett, Acting Deputy Director, Chairperson.

Anthony A. Arnolie, Director, Office of Information and Resource Management and Chief Human Capital Officer.

Richard A. Behnke, Head, Upper Atmosphere Research Section.

Deborah L. Crawford, Deputy Assistant Director for Computer and Information Science and Engineering.

Deborah F. Lockhart, Deputy Director, Division of Mathematical Sciences.

Martha A. Rubenstein, Director, Budget Division.

David A. Ucko, Deputy Director, Division of Research on Learning in Formal and Informal Settings.

Dated: September 3, 2009.
Joseph F. Burt,
Director, Division of Human Resource Management.

[FR Doc. E9-21800 Filed 9-10-09; 8:45 am]

BILLING CODE 7555-01-M